DEPARTMENT OF THE INTERIOR

Bureau of Land Management

[WY-957-04-1420-BJ]

Survey Plat Filings; Wyoming

AGENCY: Bureau of Land Management, Interior.

ACTION: Notice of filing of plats of survey, Wyoming.

SUMMARY: The Bureau of Land Management (BLM) has filed the plats of survey of the lands described below in the BLM Wyoming State Office, Cheyenne, Wyoming, on September 24, 2004.

FOR FURTHER INFORMATION CONTACT: Bureau of Land Management, 5353 Yellowstone Road, P.O. Box 1828, Cheyenne, Wyoming 82003.

SUPPLEMENTARY INFORMATION: These surveys were executed at the request of the Bureau of Land Management and are necessary for the management of resources. The lands surveyed are:

The plat and field notes representing the dependent resurvey of the Fourteenth Standard Parallel North, through Range 74 West, the south boundary and the subdivisional lines, Township 56 North, Range 74 West, Sixth Principal Meridian, Wyoming, was accepted September 24, 2004.

The plat and field notes representing the dependent resurvey of the east and north boundaries, and the subdivisional lines, Township 55 North, Range 75 West, Sixth Principal Meridian, Wyoming, was accepted September 24, 2004.

The plat and field notes representing the dependent resurvey of the Fourteenth Standard Parallel North, through Range 75 West, the east boundary and the subdivisional lines, Township 56 North, Range 75 West, Sixth Principal Meridian, Wyoming, was accepted September 24, 2004.

Copies of the preceding described plats and field notes are available to the public at a cost of $1.10 per page.

Dated: September 24, 2004.
John P. Lee,
Chief Cadastral Surveyor, Division of Support Services.

[FR Doc. 04-21914 Filed 9-29-04; 8:45 am]

BILLING CODE 4310-22-P